DEPARTMENT OF THE INTERIOR

National Park Service

[NPS-WASO-NRNHL-DTS#-36413; PPWOCRADI0, PCU00RP14.R50000]

National Register of Historic Places; Notification of Pending Nominations and Related Actions

AGENCY: National Park Service, Interior.

ACTION: Notice.

SUMMARY: The National Park Service is soliciting electronic comments on the significance of properties nominated before August 12, 2023, for listing or related actions in the National Register of Historic Places.

DATES: Comments should be submitted electronically by September 11, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before August 12, 2023. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

CALIFORNIA

Alameda County

Immanuel Evangelical Lutheran Church of Alameda, 1420 Lafayette St., Alameda, SG100009369

Los Angeles County

Higgins Building, 108 West 2nd St., Los Angeles, SG100009358

Doctors House, 1601 West Mountain St., Glendale, SG100009362

ILLINOIS

Cook County

Pioneer Trust and Savings Bank, 4000 West North Ave., Chicago, SG100009372

Will County

Illinois State Penitentiary-Joliet Historic District, 1125 Collins St., Joliet, SG100009371

MAINE

Cumberland County

Franklin Towers, 211 Cumberland Ave. (Tax ID address 61 Wilmot St.), Portland, SG100009363

Penobscot County

Great Northern Paper Company Administration Historic District, 1 Katahdin Ave., Millinocket, SG100009368

Piscataquis County

Genthner, Ernest and Louise, House, 24 Elm St., Guilford, SG100009364

First Universalist Church of Sangerville, 11 Church St., Sangerville, SG100009367

Sagadahoc County

Malaga Island, Malaga Island, Phippsburg, SG100009365

MARYLAND

Worcester County

Showell House, 11206 Worcester Hwy., Showell vicinity, SG100009376

OHIO

Medina County

Wadsworth Downtown Historic District, Roughly bounded by 101-161 and 102-146 High, 117-129 Broad, 111-273, 102-156 and 246-258 Main, 188 South Lyman, 105 Garfield, and 107-155 and 112-116 College Sts., 110-122, Watrusa Ave., Wadsworth, SG100009356

WISCONSIN

Brown County

Lenfestey, Agnes and Ruth Lenfestey Mark, House, 1336 Ridgeway Blvd., De Pere, SG100009375

Additional documentation has been received for the following resources:

ARIZONA

Pima County

Blenman-Elm Historic District (Additional Documentation), 2820 East Adams St., Tucson, AD03000318

OHIO

Summit County

Akron Soap Company (Additional Documentation), 237-243 Furnace St., Akron, AD14000811

Nomination submitted by Federal Preservation Officer:

The State Historic Preservation Officer reviewed the following nomination and responded to the Federal Preservation Officer within 45 days of receipt of the nomination and supports listing the property in the National Register of Historic Places.

CALIFORNIA

Humboldt County

U.S Coast Guard Station Humboldt Bay, (U.S. Government Lifesaving Stations MPS), 200 New Navy Base Rd. Samoa vicinity, MP100009370

Authority: Section 60.13 of 36 CFR part 60.

Dated: August 16, 2023.
Sherry A. Frear,
Chief, National Register of Historic Places/National Historic Landmarks Program.

[FR Doc. 2023-18329 Filed 8-24-23; 8:45 am]

BILLING CODE 4312-52-P